NUCLEAR REGULATORY COMMISSION

10 CFR Part 72

RIN 3150-AG17

List of Approved spent Fuel Storage Casks: (HI-STAR 100) Addition

Correction

In the issue of September 20, 1999, on page 50872, in the second column, in the correction of rule document 99-23075, in the last line, the date “September 20, 2019” should read “October 4, 2019”.

[FR Doc. C9-23075 Filed 2-16-00; 8:45 am]

BILLING CODE 150501-D

DEPARTMENT OF THE TREASURY

Internal Revenue Service

26 CFR Part 35

[T.D. 8873]

RIN 1545-AW78

New Technologies in Retirement Plans

Correction

In rule document 00-1897, beginning on page 6001, in the issue of Tuesday, February 8, 2000, make the following correction:

PART 35 [CORRECTED]

On page 6007, in the third column, amendatory paragraph 6 is corrected to read as follows:

“Par. 6. Redesignate § 35.3405-1 as § 35.3405-1T and revise the heading to read as follows:”

[FR Doc. C0-1897 Filed 2-16-00; 8:45 am]

BILLING CODE 1505-01-D